DEPARTMENT OF HOMELAND SECURITY

Federal Emergency Management Agency

44 CFR Part 67

[Docket No. FEMA-P-7675]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆ Elevation in feet (NAVD): Existing | ◆ Elevation in feet (NAVD): Modified | Communities affected
Boggs Creek:
Approximately 100 feet upstream of East McCarty Street | ◆555 | ◆556 | City of Jefferson City.
Approximately 3,400 feet upstream of Scenic Drive | None | ◆612
Dickerson Creek:
Approximately 120 feet upstream of Business U.S. Highway 50 | ◆647 | ◆648 | Cole County (Unincorporated Areas).
Approximately 1,880 feet upstream of confluence of Dickerson Creek Tributary No. 2 | ◆724 | ◆723
Dickerson Creek Tributary No. 1:
Approximately 180 feet upstream of the confluence with Dickerson Creek | ◆647 | ◆648 | Cole County (Unincorporated Areas).
Approximately 740 feet upstream of Business U.S. Highway 50 | ◆652 | ◆651
Dickerson Creek Tributary No. 2:
At confluence with Dickerson Creek | ◆699 | ◆700 | City of Jefferson City Cole County (Unincorporated Areas).
Approximately 2,750 feet upstream of U.S. Highway 50 | ◆735 | ◆727
East Branch Wears Creek:
At confluence with Wears Creek | ◆560 | ◆561 | City of Jefferson City.
Approximately 150 feet upstream of Lafayette Street | None | ◆578
Grays Creek:
At the confluence with Missouri River | ◆560 | ◆562 | City of Jefferson City Cole County (Unincorporated Areas).
Approximately 2.2 miles upstream of State Highway 179/Rock Hill Road | None | ◆562
Grays Creek Tributary:
At the confluence with Grays Creek | ◆560 | ◆562 | City of Jefferson City.
Approximately 4,180 feet upstream of confluence with Grays Creek | ◆561 | ◆562
Moreau River:
At the confluence with Missouri River | ◆550 | ◆552 | City of Jefferson City Cole County (Unincorporated Areas).
Approximately 5.2 miles upstream of U.S. Highway 54 | None | ◆591
North Branch Wears Creek:
At confluence with Wears Creek | ◆559 | ◆561 | City of Jefferson City.
Approximately 30 feet upstream of Schellridge Drive/Jaycee Drive | ◆619 | ◆614
Osage River:
At the eastern County Boundary (approximately 7,750 feet downstream of Union Pacific Railroad) | ◆545 | ◆548 | City of Wardsville Cole County (Unincorporated Areas).
Approximately 10.1 miles upstream of State Highway B | None | ◆563
Wears Creek:
Approximately 80 feet downstream of West Main Street | ◆556 | ◆557 | City of Jefferson City Cole County (Unincorporated Areas).
Wears Creek:
Approximately 2,850 feet upstream of Frog Hollow Road | ◆612 | ◆609 | City of Jefferson City Cole County (Unincorporated Areas).
ADDRESSES: | Unincorporated Areas of Cole County, Missouri:
Maps are available for inspection at the Department of Public Works, 5055 Monticello Road, Jefferson City, Missouri.
Send comments to The Honorable Bob Jones, Presiding Commissioner, Cole County Annex, 301 East High Street, Room 200, Jefferson City, Missouri 65101.
City of Jefferson City, Cole County, Missouri:
Maps are available for inspection at City Hall, 320 East McCarty Street, Jefferson City, Missouri.
Send comments to The Honorable John Landwehr, Mayor, City of Jefferson City, City Hall, 320 East McCarty Street, Jefferson City, Missouri 65101.
City of Wardsville, Cole County, Missouri:
Maps are available for inspection at 5805 Wardsville Road, Jefferson City, Missouri.
Send comments to The Honorable Anthony Luebbering, Mayor, City of Wardsville, 5805 Wardsville Road, Jefferson City, Missouri 65101.
Big Papillion Creek:
Approximately 750 feet downstream of Harrison Street | ◆1,003 | ◆997 | City of Omaha.
Approximately 200 feet downstream of Burlington Northern & Santa Fe Railway | ◆1,004 | ◆1,003
Elkhorn River:
Approximately 7,800 feet downstream of West Q Road | ◆1,101 | ◆1,102 | Douglas County (Unincorporated Areas).
Approximately 4,350 feet downstream of West Q Road | ◆1,106 | ◆1,105
Platte River:
Approximately 23,200 feet downstream of West Center Road/U.S. Highway 275/State Highway 92 | ◆1,101 | ◆1,102 | Douglas County (Unincorporated Areas).
At the northern County Boundary (approximately 35,500 feet upstream of Ida Street/State Highway 64) | ◆1,189 | ◆1,192 |
ADDRESSES:
Unincorporated Areas of Douglas County, Nebraska:
Maps are available for inspection at the Douglas County Community Map Repository, 3015 Menke Circle, Omaha, Nebraska.
Send comments to Ms. Kathy Kelley, Chief Administrative Officer, Douglas County, 1819 Farnam Street, Omaha, Nebraska 68183.
City of Omaha:
Maps are available for inspection at the Community Map Repository, City of Omaha, 1819 Farnam Street, Omaha, Nebraska.
Send comments to The Honorable Mike Fahey, Mayor, City of Omaha, 1819 Farnam Street, 3rd Floor, Omaha, Nebraska 68183.
Elkhorn River:
Just upstream of the confluence with the Platte River | ◆1,085 | ◆1,086 | Sarpy County (Unincorporated Areas).
At the northern County Boundary (approximately 5.75 miles upstream of the confluence with the Platte River) | ◆1,102 | ◆1,103
Platte River:
Approximately 800 feet upstream of the confluence with the Missouri River | ◆967 | ◆966 | Sarpy County (Unincorporated Areas).
At the northern County Boundary (approximately 5.11 miles upstream of the confluence of the Elkhorn River) | ◆1,103 | ◆1,106
Springfield Creek:
At the confluence with the Platte River | ◆1,012 | ◆1,011 | Sarpy County (Unincorporated Areas).
Approximately 200 feet upstream of Buffalo Road | ◆1,012 | ◆1,011
ADDRESSES:
Unincorporated Areas of Sarpy County, Nebraska:
Maps are available for inspection at the Community Map Repository, Sarpy County Courthouse, 1210 Golden Gate Drive, Papillion, Nebraska.
Send comments to The Honorable Inez Boyd, Chairman, Board of Commissioners, Sarpy County Courthouse, 1210 Golden Gate Drive, #116, Papillion, Nebraska 68046.

(Catalog of Federal Domestic Assistance No. 83.100, “Flood Insurance.”)
Dated: March 25, 2005.
David I. Maurstad,
Acting Director, Mitigation Division, Emergency Preparedness and Response Directorate.

[FR Doc. 05-6433 Filed 3-31-05; 8:45 am]

BILLING CODE 9110-12-P